DEPARTMENT OF HEALTH AND HUMAN SERVICES

Request for Comments on National Bioethics Advisory Bodies

AGENCY: Presidential Commission for the Study of Bioethical Issues, Office of the Secretary, Department of Health and Human Services.

ACTION: Notice.

SUMMARY: The Presidential Commission for the Study of Bioethical Issues is requesting public comment on the role of past, present, and future national bioethics bodies, such as this one, in the United States and elsewhere.

DATES: To ensure consideration, comments must be received by July 1, 2016. Comments received after this date will be considered as time permits.

ADDRESSES: Individuals, groups, and organizations interested in commenting on this topic may submit comments by email to info@bioethics.gov or by mail to the following address: Public Commentary, Presidential Commission for the Study of Bioethical Issues, 1425 New York Ave. NW., Suite C-100, Washington, DC 20005.

FOR FURTHER INFORMATION CONTACT: Lisa M. Lee, Executive Director, Presidential Commission for the Study of Bioethical Issues. Telephone: 202-233-3960. Email: Lisa.Lee@bioethics.gov. Additional information may be obtained at http://www.bioethics.gov.

SUPPLEMENTARY INFORMATION: On November 24, 2009, the President established the Presidential Commission for the Study of Bioethical Issues (the Commission) to advise him on bioethical issues generated by novel and emerging research in biomedicine and related areas of science and technology. The Commission is charged with identifying and promoting policies and practices that ensure ethically responsible conduct of scientific research and health care delivery. Undertaking these duties, the Commission seeks to identify and examine specific bioethical, legal, and social issues related to potential scientific and technological advances; examine diverse perspectives and possibilities for international collaboration on these issues; and recommend legal, regulatory, or policy actions as appropriate.

The Commission will conclude at the end of the Presidential administration, and in its two final meetings will reflect on the past, present, and future of national bioethics advisory bodies. These meetings will include discussion of the role of national advisory bodies in the developing public policy in the United States and elsewhere, and consideration of the future of U.S. national bioethics advisory bodies that might follow.

The Commission is interested in receiving comments from individuals, groups, and professional communities who wish to join the Commission in reflecting on the past, present, and future of national bioethics advisory bodies in the United States and elsewhere. The Commission is particularly interested in receiving public commentary regarding:

• The advantages and disadvantages of different models for national bioethics advisory bodies, e.g., standing or temporary, narrowly or broadly focused (examining one topic or issue or a variety of issues);

• The lessons we can learn from national bodies in other countries to inform how U.S. bodies might work;

• The influence of national bioethics bodies on bioethics as a field; other academic fields, such as science, medicine, and technology; and public policy;

• The future of national bioethics advisory groups in the United States.

To this end, the Commission is inviting interested parties to provide input and advice through written comments. Comments will be publicly available, including any personally identifiable or confidential business information that they contain. Trade secrets should not be submitted.

Dated: March 1, 2016.
Lisa M. Lee,
Executive Director, Presidential Commission for the Study of Bioethical Issues.

[FR Doc. 2016-06015 Filed 3-16-16; 8:45 am]

BILLING CODE 4150-06-P